DEPARTMENT OF DEFENSE

Department of the Navy

Notice of Intent To Grant Exclusive Patent License; Microsphere Material Solutions, LLC.

AGENCY: Department of the Navy, DoD.

ACTION: Notice.

SUMMARY: The invention listed below is assigned to the United States Government as represented by the Secretary of the Navy. The Department of the Navy hereby gives notice of its intent to grant to Microsphere Material Solutions, LLC., a revocable, nonassignable, exclusive license to practice in the United States, the Government-owned invention described below:

U.S. PATENT 9,102,087 (Navy Case 103037): Issued August 11, 2015, entitled “FOAMS MADE OF AMORPHOUS HOLLOW SPHERES AND THE MANUFACTURE THEREOF”.

DATES: Anyone wishing to object to the grant of this must file written objections along with supporting evidence, if any, not later than September 16, 2016.

ADDRESSES: Written objections are to be filed with Naval Surface Warfare Center, Crane Div, Code OOL, Bldg. 2, 300 Highway 361, Crane, IN 47522-5001.

FOR FURTHER INFORMATION CONTACT: Mr. Christopher Monsey, Naval Surface Warfare Center, Crane Div, Code OOL, Bldg 2, 300 Highway 361, Crane, IN 47522-5001, telephone 812-854-4100.

Authority: 35 U.S.C. 207, 37 CFR part 404.

Dated: August 24, 2016.
N.A. Hagerty-Ford,
Commander, Judge Advocate General's Corps, U.S. Navy, Federal Register Liaison Officer.

[FR Doc. 2016-21051 Filed 8-31-16; 8:45 am]

BILLING CODE 3810-FF-P